NATIONAL AERONAUTICS AND SPACE ADMINISTRATION

[Notice: (14-131)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Wednesday, January 14, 2015, 1:00 p.m.-5:00 p.m.; Thursday, January 15, 2015, 9:00 a.m.-5:00 p.m., Local Time.

ADDRESSES: NASA Stennis Space Center, Roy S. Estess Building, Building 1100, Room 321, Stennis Space Center, MS 39529-6000.

FOR FURTHER INFORMATION CONTACT: Ms. Marla King, NAC Administrative Officer, NASA Headquarters, Washington, DC 20546, 202-358-1148.

SUPPLEMENTARY INFORMATION: The agenda for the meeting will include the following:

—Aeronautics Committee Report

—Human Exploration and Operations Committee Report

—Institutional Committee Report

—Science Committee Report

—Technology, Innovation and Engineering Committee Report

The meeting will be open to the public up to the seating capacity of the room. This meeting is also available telephonically and by WebEx. You must use a touch tone phone to participate in this meeting. Any interested person may dial the toll free access number 1-844-467-6272 or toll access number 1-720-259-6462, and then the numeric participant passcode: 171653 followed by the # sign. To join via WebEx, the link is https://nasa.webex.com/. The meeting number is 998 183 116, and the password is 01142015j! . The meeting number and password are the same for both days. (Passwords are case-sensitive.) NOTE: If dialing in, please “mute” your telephone. Attendees will be required to sign a register and comply with NASA Stennis Space Center security requirements, including the presentation of a valid picture ID before receiving access to NASA Stennis Space Center. Due to the Real ID Act, Public Law 109-13, any attendees with drivers licenses issued from non-compliant states must present a second form of ID. Non-compliant states/territories are: American Samoa, Arizona, Louisiana, Maine, Minnesota, New York, Oklahoma and Washington. Foreign nationals attending this meeting will be required to provide a copy of their passport and visa in addition to providing the following information no less than 20 days prior to the meeting: full name; home address; gender; citizenship; date/city/country of birth; title, position or duties; visa type, number and expiration date; passport number, expiration date and country of issue; and employer/affiliation information (name of institution, address, country, telephone, email, phone). Contact the International Visitor Coordinator, Mary Treat, at (228) 688-3916 for the specifics on any foreign national visitors. To expedite admittance, attendees with U.S. citizenship and Permanent Residents (green card holders) can provide identifying information 3 working days in advance by emailing the NASA Office of Communications at SSC-PAO@mail.nasa.gov.

It is imperative that the meeting be held on this date to accommodate the scheduling priorities of the key participants.

Patricia D. Rausch,
Advisory Committee Management Officer, National Aeronautics and Space Administration.

[FR Doc. 2014-29328 Filed 12-15-14; 8:45 am]

BILLING CODE 7510-13-P